DEPARTMENT OF STATE

[Public Notice: 12698]

Proposal To Extend the Cultural Property Agreement Between the United States and Costa Rica

SUMMARY: Proposal to extend the Memorandum of Understanding Between the Government of the United States of America and the Government of the Republic of Costa Rica Concerning the Imposition of Import Restrictions on Categories of Archaeological Material of Costa Rica (“the Costa Rica Agreement”).

FOR FURTHER INFORMATION CONTACT: Anashya Srinivasan, Cultural Heritage Center, Bureau of Educational and Cultural Affairs at (202) 919-0062, or culprop@state.gov; include “Costa Rica” in the subject line.

SUPPLEMENTARY INFORMATION: Pursuant to the authority vested in the Acting Assistant Secretary of State for Educational and Cultural Affairs, and pursuant to 19 U.S.C. 2602(f)(1), an extension of the Costa Rica Agreement is hereby proposed.

A copy of the Costa Rica Agreement, the Designated List of categories of material currently restricted from import into the United States, and related information can be found at the Cultural Heritage Center website: https://culturalheritage.state.gov.

Andrew L. Zonderman,
Designated Federal Officer, Cultural Property Advisory Committee, Bureau of Educational and Cultural Affairs, Department of State.

[FR Doc. 2025-06891 Filed 4-21-25; 8:45 am]

BILLING CODE 4710-05-P